DEPARTMENT OF DEFENSE

Department of the Air Force

Scientific Advisory Board

AGENCY: Department of the Air Force, DoD.

ACTION: Notice of closed meeting.

SUMMARY: The 2002 Spring General Board Meeting in support of the HQ USAF Scientific Advisory Board will meet at Hickam Air Force Base and the Hale Koa Hotel in Hawaii. The purpose of this meeting is to hear PACAF and PACOM-specific briefings and to complement the “data gathering” phase of ongoing study efforts. The meeting will be closed to the public in accordance with Section 552b of Title 5, United States Code, specifically subparagraphs (10) and (4) thereof.

DATES: 15-19 April, 2002.

ADDRESSES: Hickam AFB, HI; and the Hale Koa Hotel, HI.

FOR FURTHER INFORMATION CONTACT: HQ USAF Scientific Advisory Board Secretariat, (703) 697-8404.

Pamela D. Fitzgerald,
Air Force Federal Register Liaison Officer.

[FR Doc. 02-5943 Filed 3-11-02; 8:45 am]

BILLING CODE 5001-05-P